OFFICE OF PERSONNEL MANAGEMENT

5 CFR Part 532

RIN 3206-AJ79

Prevailing Rate Systems; Change in Federal Wage System Survey Job

AGENCY: Office of Personnel Management.

ACTION: Proposed rule with request for comments.

SUMMARY: The Office of Personnel Management (OPM) is issuing a proposed rule that would change a Federal Wage System appropriated fund optional survey job, Industrial Electronic Controls Repairer, so that its grade level and title would better reflect the level of work and occupational title that private industry typically uses. This change would enable the Department of Defense to collect more wage data when conducting local wage surveys to set pay levels for the Government's blue-collar workforce.

DATES: Comments must be received on or before September 11, 2003.

ADDRESSES: Send or deliver comments to Donald J. Winstead, Deputy Associate Director for Pay and Performance Policy, Strategic Human Resources Policy Division, Office of Personnel Management, Room 7H31, 1900 E Street, NW., Washington, DC 20415-8200; e-mail payleave@opm.gov; or FAX: (202) 606-4264.

FOR FURTHER INFORMATION CONTACT: Mark A. Allen, (202) 606-2848; e-mail maallen@opm.gov; or FAX: (202) 606-4264.

SUPPLEMENTARY INFORMATION: The Federal Prevailing Rate Advisory Committee (FPRAC), the national labor-management committee responsible for advising the Office of Personnel Management (OPM) on matters concerning the pay of Federal Wage System (FWS) employees, established a Survey Job Work Group (SJWG) to review the survey job descriptions the Department of Defense (DOD) uses during FWS local wage surveys to determine prevailing rates of pay for FWS employees. DOD contacts private sector employers annually in each of the 132 appropriated fund FWS wage areas to determine prevailing rates of pay.

The SJWG has recommended that OPM change the title of the optional survey job, “Industrial Electronic Controls Repairer” to “Electronic Industrial Controls Mechanic,” and the grade level of the survey job from WG-10 to WG-11. The change in job title is proposed so that it would conform to the title of the FWS job grading standards for the occupation, a title now also more commonly used in private industry. The change in grade would better reflect the grade level of the work that Federal employees are currently doing. When the job is surveyed in the future, it is anticipated that DOD would be able to collect more private sector wage data for the occupation. FPRAC agreed with the Work Group's recommendations.

Regulatory Flexibility Act

I certify that this regulation would not have a significant economic impact on a substantial number of small entities because it would affect only Federal agencies and employees.

List of Subjects in 5 CFR Part 532

Administrative practice and procedure, Claims, Freedom of information, Government employees, Reporting and recordkeeping requirements, Wages.

Office of Personnel Management.
Kay Coles James,
Director.

Accordingly, the Office of Personnel Management is proposing to amend 5 CFR part 532 as follows:

PART 532—PREVAILING RATE SYSTEMS

1. The authority citation for part 532 continues to read as follows:

Authority: 5 U.S.C. 5343, 5346; § 532.707 also issued under 5 U.S.C. 552.

§ 532.217 [Amended]

2. In § 532.217, paragraph (c) table is amended by removing the job title entry “Industrial Electronic Controls Repairer”, and its corresponding job grade “10”, and adding in its place “Electronic Industrial Controls Mechanic”, grade “11”.

[FR Doc. 03-20445 Filed 8-11-03; 8:45 am]

BILLING CODE 6325-39-P